DEPARTMENT OF COMMERCE

Census Bureau

2002 Economic Census Covering Transportation of Commodities

ACTION: Proposed collection; comment request.

SUMMARY: The Department of Commerce, as part of its continuing effort to reduce paperwork and respondent burden, invites the general public and other Federal agencies to take this opportunity to comment on the proposed continuing information collection, as required by the Paperwork Reduction Act of 1995, Public Law 104-13 (44 U.S.C. 3506(c)(2)(A)).

DATES: Written comments must be submitted on or before July 17, 2001.

ADDRESSES: Direct all written comments to Madeleine Clayton, Departmental Paperwork Clearance Officer, Department of Commerce, Room 6086, 14th and Constitution Avenue, NW., Washington, DC 20230 (or via the Internet at mclayton@doc.gov).

FOR FURTHER INFORMATION CONTACT: Requests for additional information or copies of the information collection instrument(s) and instructions should be directed to John Fowler, Bureau of the Census, Room 2761, Building 3, Washington, DC 20233 on (301) 457-2108.

SUPPLEMENTARY INFORMATION

I. Abstract

The Commodity Flow Survey, a component of the Economic Census, is the only comprehensive source of multi-modal, system-wide data on the volume and pattern of goods movement in the United States. These data are used by government analysts and policy makers at the Federal, state, and local levels to estimate the future demand for transportation services and facilities; assess the adequacy of our current transportation infrastructure to accommodate the future demand; and to evaluate the economic, social and environmental impacts of transportation flows. The data also are used extensively by academics, researchers, economic planning organizations, and the business community.

The Commodity Flow Survey is co-sponsored by the Bureau of Transportation Statistics, Department of Transportation. The survey provides data on the movement of commodities in the United States from their origin to destination. The survey produces summary statistics on value, tons, ton-miles and average miles for all shipments. The Census Bureau will publish shipment characteristics at the national, census regions and divisions, state, and Metropolitan Areas levels.

Primary strategies for reducing respondent burden in the Commodity Flow Survey include: employing a stratified random sample of business establishments, requesting data on a limited sample of shipment records from each establishment, and accepting estimates.

II. Method of Collection

The Commodity Flow Survey will survey a sample of business establishments in mining, manufacturing, wholesale, and selected retail industries. Each selected establishment will receive, by mail, four questionnaires, one during each quarter of 2002. On each form, an establishment will be asked to report data for an average of 25 shipments, selected during a designated one-week reporting period.

III. Data

OMB Number: Not Available.

Form Number: CFS-1000.

Type of Review: Regular review.

Affected Public: Businesses and other for-profit, small businesses or organizations.

Estimated Number of Respondents: 50,000.

Estimated Time Per Response: 2 hours.

Estimated Total Annual Burden Hours: 400,000.

Estimated Total Annual Cost: $7,280,000.

Respondent's Obligation: Mandatory.

Legal Authority: Title 13 U.S.C. 131.

IV. Request for Comments

Comments are invited on: (a) Whether the proposed collection of information is necessary for the proper performance of the functions of the agency, including whether the information shall have practical utility; (b) the utility of the information to businesses/private industry for marketing/cost evaluation/planning; (c) the accuracy of the agency's estimate of burden (including hours and cost) of the proposed collection of information; (d) ways to enhance the quality, utility, and clarity of the information to be collected; and (e) ways to minimize the burden of the collection of information on respondents, including through the use of automated collection techniques or other forms of information technology.

Comments submitted in response to this notice will be summarized and/or included in the request for OMB approval of this information collection; they also will become a matter of public record.

Dated: May 15, 2001.
Madeleine Clayton,
Departmental Paperwork Clearance Officer, Office of the Chief Information Officer.

[FR Doc. 01-12611 Filed 5-17-01; 8:45 am]

BILLING CODE 3510-07-P